DEPARTMENT OF COMMERCE

National Oceanic and Atmospheric Administration

RIN 0648-XV07

New England Fishery Management Council; Public Meeting

AGENCY: National Marine Fisheries Service (NMFS), National Oceanic and Atmospheric Administration (NOAA), Commerce.

ACTION: Notice; public meeting.

SUMMARY: The New England Fishery Management Council's (Council) Interspecies Committee will meet to consider actions affecting New England fisheries in the exclusive economic zone (EEZ).

DATES: The meeting will be held on Tuesday, April 6, 2010 at 9 a.m.

ADDRESSES: The meeting will be held at the Seaport Hotel, One Seaport Lane, Boston, MA 02210; telephone: (617) 385-4000; fax: (617) 385-4001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Interspecies Committee will meet to develop its work plan and explore the operations of the Committee in conjunction with existing management plans. They will consider NOAA's recent draft report on catch share policy and possibly draft comments on behalf of the Council. They will also discuss consolidation of FMPs and will examine joint plans with other Councils. They will begin to consider accumulation limits for the multispecies fishery, including possible control dates for such limits, and will hear a presentation from the North Atlantic Marine Alliance on their Fleet Visioning project.

2. Other business may also be discussed.

The Committee's recommendations will be delivered to the full Council at its meeting in Mystic, CT on April 27-29, 2010.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 9, 2010.
Tracey L. Thompson,
Acting Director, Office of Sustainable Fisheries, National Marine Fisheries Service.

[FR Doc. 2010-5449 Filed 3-11-10; 8:45 am]

BILLING CODE 3510-22-S